DEPARTMENT OF HOUSING AND URBAN DEVELOPMENT

[Docket No. FR-7092-N 06]

30-Day Notice of Proposed Information Collection: Section 3 Utilization Tools; OMB Control No.: 2501-0040

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: March 31, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on June 10, 2024 at 89 FR 48913.

A. Overview of Information Collection

Title of Information Collection: Section 3 Utilization Tools.

MB Approval Number: 2501-0040.

Type of Request: Extension of a currently approved collection.

Form Number: HUD Form 4737, HUD Form 4737-A, HUD Form 4737-B, HUD Form 4737-C, HUD Form 4737-D.

Description of the need for the information and proposed use: This request is for a new collection to provide a voluntary sample tool for Section 3 related entities, to document the Section 3 labor hours for Section 3 workers and Section 3 Business concerns participating in housing and community development programs with HUD funding. The completion and submission of this Section 3 Utilization Plan meets the provisions of Section 3 found in 24 CFR part 75, which is the current regulation published pursuant to requirements in 12 U.S.C. 1701u, for the entities identified within this plan. Grantees of HUD funded projects can use this as a sample tool to document their Section 3 labor hours. This collection is not a requirement but is to be used as a sample if employers do not already have a process in place to document Section 3 labor hours. The Section 3 regulation requires each recipient to maintain adequate records demonstrating compliance with the regulation. (24 CFR 75.33(a)).

Information collection | Number of respondents | Frequency of response | Responses per annum | Burden hour per response | Annual burden hours | Hourly cost per response | Annual cost
HUD Form 4737—Section 3 Utilization Tracker: Business Labor Hours | 2,500.00 | 1 | 2,500.00 | 5 | 12,500.00 | $38.55 | $481,875.00
HUD Form 4737A—Section 3 Utilization Tracker: Section 3 Labor Hours | 2,500.00 | 1 | 2,500.00 | 5 | 12,500.00 | 38.55 | 481,875.00
HUD Form 4737B—Section 3 Sample Utilization Tool: PHA Financial Assistance | 2,500.00 | 1 | 2,500.00 | 1.5 | 3,750.00 | 38.55 | 144,562.50
HUD Form 4737C—HUD Section 3 Sample Utilization Tool: Section 3 Projects with HCD Funding | 2,500.00 | 1 | 2,500.00 | 1.5 | 3,750.00 | 38.55 | 144,562.50
HUD Form 4737D—HUD Funding Tracker for Section 3 | 2,500.00 | 1 | 2,500.00 | 3 | 7,500.00 | 38.55 | 289,125.00
Total | 12,500.00 |  |  | 16 | 40,000.00 |  | 1,542,000.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna Guido,
Department Clearance Officer, Office of Policy Development and Research, Chief Data Officer.

[FR Doc. 2025-03245 Filed 2-27-25; 8:45 am]

BILLING CODE 4210-67-P